DEPARTMENT OF THE INTERIOR

National Park Service

Colorado River Management Plan, Draft Environmental Impact Statement, Grand Canyon National Park, Grand Canyon, AZ

AGENCY: National Park Service, Department of the Interior.

ACTION: Notice of availability of the draft environmental impact statement for the Colorado River Management Plan for Grand Canyon National Park.

SUMMARY: Pursuant to subsection 102(2)(C) of the National Environmental Policy Act of 1969, codified at 42 U.S.C. 4332(2)(C), the National Park Service announces the availability of a Draft Environmental Impact Statement for the Colorado River Management Plan, Grand Canyon National Park, Grand Canyon, Arizona. The document describes and analyzes the environmental impacts of several action alternatives, including a preferred alternative, for future visitor use management of the Colorado River through Grand Canyon National Park, including the Lower Gorge. A no-action alternative is also evaluated.

DATES: The National Park Service will accept comments from the public on the Draft Environmental Impact Statement for 90 days after publication of this notice. Public meeting dates will be posted on the Internet at http://www.nps.gov/grca/crmp.

ADDRESSES: Copies of the Draft Environmental Impact Statement are available from the Office of the Superintendent, Grand Canyon National Park, P.O. Box 129, Grand Canyon, Arizona 86023. The document is also available on the Internet at: http://www.nps.gov/grca/crmp.

You may submit comments to any one of several addresses: (1) You may mail comments to CRMP Project, Grand Canyon National Park, P.O. Box 129, Grand Canyon Arizona 86023; (2) You may comment via the Internet to http://www.nps.gov/grca/crmp; and (3) You may hand-deliver comments to Grand Canyon National Park at Park Headquarters, 1 Village Loop Drive, Grand Canyon, Arizona 86023.

FOR FURTHER INFORMATION CONTACT: Mary Killeen, Project Assistant, Grand Canyon National Park, 928-638-7885.

SUPPLEMENTARY INFORMATION: Document distribution and public meetings: The public review and comment process will involve distribution of the document and a comment form. Public meetings will be held in Denver, Colorado; Phoenix, Arizona; Flagstaff, Arizona; Salt Lake City, Utah; the San Francisco, California area; and the Washington, DC area. Specific information on these meeting locations and their dates, and on any other locations and dates that may be added, will be posted at http://www.nps.gov/grca/crmp. Specific information may also be obtained from the individuals listed in the FOR FURTHER INFORMATION CONTACT section, below.

Commenting by e-mail: Please submit Internet comments as an ASCII file avoiding the use of special characters and any form of encryption. Please also include “Attn: CRMP Project” and your name and return address in your Internet message. If you do not receive a confirmation from the system that we have received your Internet message, contact Linda Jalbert 928-638-7909.

Confidentiality: Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

FOR FURTHER INFORMATION CONTACT: Mary Killeen, 928-638-7885, or Linda Jalbert, 928-638-7909.

Dated: September 24, 2004.
Stephen P. Martin,
Director, Intermountain Region, National Park Service.

[FR Doc. 04-22040 Filed 9-30-04; 8:45 am]

BILLING CODE 4312-ED-P